DEPARTMENT OF ENERGY

Federal Energy Regulatory Commission

[Docket Nos. RP88-67-079 and RP98-198-006]

Texas Eastern Transmission, LP; Notice of Compliance Filing

October 21, 2003.

Take notice that on October 15, 2003, Texas Eastern Transmission, LP (Texas Eastern) tendered for filing as part of its FERC Gas Tariff, Seventh Revised Volume No. 1, and First Revised Volume No. 2, the tariff sheets listed on Appendix A to the filing, to become effective December 1, 2003.

Texas Eastern asserts that the purpose of this filing is to comply with the Stipulation and Agreement filed by Texas Eastern on December 17, 1991 in Docket Nos. RP88-67, et al. (Phase II/PCBs) and approved by the Commission on March 18, 1992 (Settlement), and with Section 26 of Texas Eastern's FERC Gas Tariff, Seventh Revised Volume No. 1.

Texas Eastern states that copies of the filing were mailed to all affected customers of Texas Eastern and interested state commissions. Texas Eastern further states that copies of this filing have also been mailed to all parties on the service list in Docket Nos. RP88-67, et al. (Phase II/PCBs).

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: October 27, 2003.

Magalie R. Salas,
Secretary.

[FR Doc. E3-00123 Filed 10-27-03; 8:45 am]

BILLING CODE 6717-01-P